DEPARTMENT OF THE TREASURY

Agency Information Collection Activities; Submission for OMB Review; Comment Request; Customer Identification Program for Futures Commission Merchants and Introducing Brokers in Commodities

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 4, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

Title: Customer Identification Program for Futures Commission Merchants and Introducing Brokers in Commodities.

OMB Control Number: 1506-0022.

Type of Review: Revision of a currently approved collection.

Description: Futures commission merchants and introducing brokers are required to develop and maintain a customer identification program. A copy of the program must be maintained for five years. See 31 CFR 1026.100 and 31 CFR 1026.220.

Form: None.

Affected Public: Businesses or other for-profits.

Estimated Number of Respondents: 1,228.

Frequency of Response: Annually.

Estimated Total Number of Annual Responses: 1,228.

Estimated Time per Response: 11 hours.

Estimated Total Annual Burden Hours: 13,508.

Authority: 44 U.S.C. 3501 et seq.

Dated: January 29, 2019.
Spencer W. Clark,
Treasury PRA Clearance Officer.

[FR Doc. 2019-00719 Filed 1-31-19; 8:45 am]

BILLING CODE 4810-35-P